DEPARTMENT OF DEFENSE

Office of the Secretary

Submission for OMB Review; Comment Request

ACTION: Notice.

The Department of Defense has submitted to OMB for clearance, the following proposal for collection of information under the provisions of the Paperwork Reduction Act (44 U.S.C. chapter 35).

DATES: Consideration will be given to all comments received by August 7, 2003.

Title and OMB Number: Application for CHAMPUS-Provider Status: Corporate Services Provider; OMB Number 0720-0020.

Type of Request: Reinstatement.

Number of Respondents: 1,000.

Responses Per Respondent: 1.

Annual Responses: 1,000.

Average Burden Per Response: 20 minutes.

Annual Burden Hours: 333.

Needs and Uses: The information collection will allow eligible providers to apply for Corporate Services Provider status under the TRICARE Program. The collected information will be used by TRICARE contractors to process claims and verify authorized provider status. The Application for TRICARE-Provider Status: Corporate Services Provider, will collect the necessary information to ensure that the conditions are met for authorization as a TRICARE corporate services provider: ie., The provider (1) is a corporation or a foundation, but not a professional corporation or professional foundation; (2) provides services and related supplies of a type of rendered by TRICARE individual professional providers or diagnostic technical services; (3) is approved for Medicare payment or when Medicare approval status is not required, is accredited, by a qualified accreditation organization; and, (4) has entered into a participation agreement approved by the Executive Director, TRICARE Management Activity or a designee.

Affected Public: Business or Other For-Profit; Not-For-Profit Institutions.

Frequency: On Occasion.

Respondent's Obligation: Required to Obtain or Retain Benefits.

OMB Desk Officer: Ms. Cristal Thomas.

Written comments and recommendations on the proposed information collection should be sent to Ms. Thomas at the Office of Management and Budget, Desk Officer for DoD Health Affairs, Room 10235, New Executive Office Building, Washington, DC 20503.

DoD Clearance Officer: Mr. Robert Cushing.

Written requests for copies of the information collection proposal should be sent to Mr. Cushing, WHS/DIOR, 1215 Jefferson Davis Highway, Suite 1204, Arlington, VA 22202-4302.

Dated: June 30, 2003.
Patricia L. Toppings,
Alternate OSD Federal Register Liaison Officer, Department of Defense.

[FR Doc. 03-17128 Filed 7-7-03; 8:45 am]

BILLING CODE 5001-08-M